DEPARTMENT OF COMMERCE

National Oceanic and Atmospheric Administration

50 CFR Part 648

RIN 0648-BC48

Fisheries of the Northeastern United States; Northeast Multispecies; Amendment 19

AGENCY: National Marine Fisheries Service (NMFS), National Oceanic and Atmospheric Administration (NOAA), Commerce.

ACTION: Notice of availability of a fishery management plan amendment; request for comments.

SUMMARY: NMFS announces that the New England Fishery Management Council has submitted Amendment 19 to the Northeast Multispecies Fishery Management Plan, incorporating a draft Environmental Assessment and an Initial Regulatory Flexibility Analysis, for review and approval by the Secretary of Commerce. NMFS is requesting comments from the public on Amendment 19, which was developed by the Council to modify management measures that govern the small-mesh multispecies fishery, including accountability measures, year-round possession limits, and the total allowable landings process.

DATES: Public comments must be received on or before December 18, 2012.

ADDRESSES: A draft environmental assessment (EA) was prepared for Amendment 19 that describes the proposed action and other considered alternatives, and provides a thorough analysis of the impacts of the proposed measures and alternatives. Copies of Amendment 19, including the draft EA and the Initial Regulatory Flexibility Analysis (IRFA), are available on request from Paul J. Howard, Executive Director, New England Fishery Management Council (Council), 50 Water Street, Newburyport, MA 01950. These documents are also available online at http://www.nefmc.org.

You may submit comments, identified by NOAA-NMFS-2012-0170, by any one of the following methods:

• Electronic Submissions: Submit all electronic public comments via the Federal e-Rulemaking portal: http://www.regulations.gov. To submit comments via the e-Rulemaking Portal, first click the “Submit a Comment” icon, then enter NOAA-NMFS-2012-0170 in the keyword search. Locate the document you wish to comment on from the resulting list and click on the “Submit a Comment” icon on the right of that line.

• Fax: (978) 281-9135, Attn: Comments on Whiting Amendment 19, NOAA-NMFS-2012-0170.

• Mail and Hand Delivery: John K. Bullard, Regional Administrator, NMFS, Northeast Regional Office, 55 Great Republic Drive, Gloucester, MA 01930. Mark the outside of the envelope: “Comments on Whiting Amendment 19.”

Instructions: Comments must be submitted by one of the above methods to ensure that the comments are received, documented, and considered by NMFS. Comments sent by any other method, to any other address or individual, or received after the end of the comment period, may not be considered. All comments received are part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Moira Kelly, Fishery Policy Analyst, (978) 281-9218; fax: (978) 281-9135.

SUPPLEMENTARY INFORMATION:

Background

This amendment affects the part of the New England groundfish fishery known as the small-mesh fishery. The small-mesh fishery is composed of a complex of five stocks of three species of hakes (northern silver hake, southern silver hake, northern red hake, southern red hake, and offshore hake), and the fishery is managed through a series of exemptions from the other provisions of the Northeast (NE) Multispecies Fishery Management Plan (FMP). It is managed separately from the other stocks of groundfish such as cod, haddock, and flounders primarily because it is prosecuted with much smaller mesh and does not generally result in the catch of these other stocks.

The New England Fishery Management Council (Council) initiated Amendment 19 to bring the small-mesh multispecies portion of the FMP into compliance with the annual catch limit (ACL) and accountability measure (AM) requirements of the Magnuson-Stevens Fishery Conservation and Management Act (Magnuson-Stevens Act). However, development of Amendment 19 was delayed, and it was apparent that the amendment would not be submitted until well after the 2011 statutory deadline for implementing mechanisms for establishing ACLs and AMs. To ensure that ACLs and AMs for the small-mesh fishery were implemented closer to the statutory deadline, NOAA initiated, developed, and implemented, with the concurrence of the Council, a Secretarial Amendment (March 30, 2012; 77 FR 19138). The Secretarial Amendment built upon measures already developed by the Council in the initial stages of Amendment 19.

Amendment 19 proposes measures intended to respond to changing conditions in the fishery and opportunities to improve efficiency and accuracy. First, measures are proposed to streamline the specifications setting process, establish new overfishing definitions, and to define the roles and responsibilities of monitoring the fishery on an annual basis. Second, a measure is proposed to require vessels fishing for small-mesh multispecies to submit weekly vessel trip reports. Third, a measure is proposed to modify the total allowable landings (TAL) structure that was implemented through the Secretarial Amendment for the southern stock area. Implementing this measure would result in quarterly TALs in the southern stock area after landings in a given year exceed two-thirds of the TAL. Fourth, a measure is proposed that would increase the incidental possession limit for northern silver hake and southern whiting (silver and offshore hake, combined) that was implemented through the Secretarial Amendment from 1,000 lb (453.6 kg) to 2,000 lb (907.2 kg). The incidental possession limits would be triggered if 90 percent of a stock's TAL is projected to be harvested. Fifth, the amendment proposes to change the post-season AM from a pound-for-pound payback of an ACL overage to a system where the incidental possession limit trigger (i.e., the 90-percent described above) would be reduced by the same percentage by which the ACL was exceeded. For example, if a stock's ACL were exceeded by 5 percent in 2013, then starting in 2015, the incidental possession limit would be triggered when 85 percent of that stock's TAL is projected to be harvested rather than 90 percent. Finally, Amendment 19 proposes two measures dealing with year-round trip limits. For red hake, a measure is proposed that would establish a 5,000-lb (2,268-kg) trip limit for all gear types in all areas. For whiting (silver and offshore hake, combined) in the southern stock area, the trip limit for vessels fishing with mesh that is 3 inches (7.6 cm) or greater would be increased from 30,000 lb (13,607.8 kg) to 40,000 lb (18,143.7 kg). The increase in the whiting possession limit would only be applicable to vessels fishing exclusively in the Southern New England or Mid-Atlantic Exemption Areas.

Public comments on Amendment 19 and its incorporated documents may be submitted through the end of the comment period stated in this notice of availability. A proposed rule to implement Amendment 19 will be published in the Federal Register for public comment. Public comments on the proposed rule must be received by the end of the comment period provided in this notice of availability of Amendment 19 to be considered in the approval/disapproval decision on the amendment. All comments received by December 18, 2012, whether specifically directed to Amendment 19 or the proposed rule for Amendment 19, will be considered in the approval/disapproval decision on Amendment 19. Comments received after that date will not be considered in the decision to approve or disapprove Amendment 19. To be considered, comments must be received by close of business on the last day of the comment period.

Authority: 16 U.S.C. 1801 et seq.

Dated: October 16, 2012.
Emily H. Menashes,
Deputy Director, Office of Sustainable Fisheries, National Marine Fisheries Service.

[FR Doc. 2012-25824 Filed 10-18-12; 8:45 am]

BILLING CODE 3510-22-P